DEPARTMENT OF AGRICULTURE

Grain Inspection, Packers and Stockyards Administration

Wheat Protein Calibration

AGENCY: Grain Inspection, Packer and Stockyards Administration, USDA.

ACTION: Notice.

SUMMARY: The Grain Inspection, Packers and Stockyards Administration (GIPSA) is announcing its intent to provide official protein content measurements for wheat using an Artificial Neural Network (ANN) calibration on the official near-infrared transmittance (NIRT) instruments. GIPSA provides protein content measurement in wheat as official criteria under the authority of the United States Grain Standards Act.

DATES: Effective May 1, 2005.

FOR FURTHER INFORMATION CONTACT: Steven N. Tanner, Director, Technical Services Division, GIPSA, USDA, 10383 N. Ambassador Drive, Kansas City, Missouri 64153; telephone (816) 891-0401; fax (816) 891-0478.

SUPPLEMENTARY INFORMATION: At present, GIPSA maintains individual partial least squares (PLS) calibrations to determine protein content for each of the six major classes of wheat—Hard Red Winter, Soft Red Winter, Soft White, Hard Red Spring, Hard White, and Durum. As part of GIPSA's on-going efforts to evaluate calibrations and programs, GIPSA has thoroughly evaluated the effect of switching from the current PLS calibrations to an ANN calibration. A single ANN calibration can be used for protein determinations in all six wheat classes. Comprehensive results of GIPSA's evaluation and other ANN-related information may be found on GIPSA's Web site at: http://www.usda.gov/gipsa.

Based on its evaluation, GIPSA has decided to implement the new ANN wheat protein calibration on official NIRT instruments for all classes of wheat on May 1, 2005.

Authority: 7 U.S.C. 71 et seq.

David R. Shipman,
Acting Administrator, Grain Inspection, Packers and Stockyards Administration.

[FR Doc. 04-19602 Filed 8-26-04; 8:45 am]

BILLING CODE 3410-EN-M